DEPARTMENT OF ENERGY

Federal Energy Regulatory Commission

Combined Notice of Filings #1

Take notice that the Commission received the following exempt wholesale generator filings:

Docket Numbers: EG11-99-000.

Applicants: Granite Reliable Power, LLC.

Description: Notice of Self-Certification of Exempt Wholesale Generator Status of Granite Reliable Power, LLC.

Filed Date: 06/30/2011.

Accession Number: 20110630-5043.

Comment Date: 5 p.m. Eastern Time on Thursday, July 21, 2011.

Docket Numbers: EG11-100-000.

Applicants: Michigan Wind 2, LLC.

Description: Michigan Wind 2, LLC's Self-Certification of Exempt Wholesale Generator Status.

Filed Date: 07/01/2011.

Accession Number: 20110701-5266.

Comment Date: 5 p.m. Eastern Time on Friday, July 22, 2011.

Take notice that the Commission received the following electric rate filings:

Docket Numbers: ER97-4281-024; ER99-2161-012; ER99-3000-011; ER00-2810-010; ER99-4359-009; ER99-4358-009; ER99-2168-012; ER09-1300-003; ER10-1291-002; ER09-1301-003; ER99-2162-012; ER00-2807-010; ER00-2809-010; ER99-4355-009; ER99-4356-009; ER00-3160-015; ER99-4357-009; ER00-3160-016; ER00-2313-011; ER02-2032-009; ER02-1396-009; ER02-1412-009; ER99-3637-010; ER99-1712-012; ER00-2808-011.

Applicants: Norwalk Power LLC, NRG Power Marketing LLC, Connecticut Jet Power LLC, Montville Power LLC, Middletown Power LLC, Somerset Power LLC, NRG Energy Center Dover LLC, Arthur Kill Power LLC, Dunkirk Power LLC, Huntley Power LLC, Conemaugh Power LLC, Indian River Power LLC, Keystone Power LLC, NRG Energy Center Paxton LLC, NRG Rockford LLC, NRG Rockford II LLC, Vienna Power LLC, Devon Power LLC, GenConn Middletown LLC, GenConn Devon LLC, GenConn Energy LLC, NRG New Jersey Energy Sales LLC, Oswego Harbor Power LLC, Astoria Gas Turbines Power LLC, NEO Freehold-Gen LLC.

Description: NRG Northeast MBR Entities Updated Market Power Analysis under ER97-4281, et al.

Filed Date: 06/30/2011.

Accession Number: 20110630-5291.

Comment Date: 5 p.m. Eastern Time on Monday, August 29, 2011.

Docket Numbers: ER10-1838-001; ER10-1915-001; ER10-1854-001; ER10-1857-001; ER10-1899-001; ER10-1900-001; ER10-1902-001; ER10-1903-001; ER10-1932-001; ER10-1935-001; ER10-1949-001; ER10-1963-001; ER10-1967-001; ER10-1968-001; ER10-1971-002; ER10-1973-001; ER10-1951-002; ER10-1975-004; ER10-1974-004; ER11-2365-002; ER10-1986-001; ER10-1990-001; ER10-1993-001;

Applicants: Backbone Mountain Windpower, LLC, Baywater Peaking Facility, LLC, Doswell Limited Partnership, FPL Energy Cape, LLC, FPL Energy Illinois Wind, LLC, FPL Energy Maine Hydro, LLC, FPL Energy Marcus Hook, L.P., FPL Energy MH50, LP, FPL Energy Wyman, LLC, FPL Energy Wyman IV, LLC, FPLE Rhode Island State Energy, L.P., Jamaica Bay Peaking Facility, LLC, Meyerdale Windpower, LLC, Mill Run Windpower, LLC, Nextra Energy Power Marketing, LLC, Nextra Energy Seabrook, LLC, Nextra Energy Services Massachusetts, LLC, North Jersey Energy Associates, Northeast Energy Associates, L.P., Paradise Solar Urban Renewal, LLC, Pennsylvania Windfarms, Inc., Somerset Windpower, LLC, Waymart Wind Farm, L.P.

Description: NextEra Energy Companies' Northeast Triennial Market Power Update.

Filed Date: 07/01/2011.

Accession Number: 20110701-5237.

Comment Date: 5 p.m. Eastern Time on Tuesday, August 30, 2011.

Docket Numbers: ER10-1944-001; ER10-2051-002; ER10-1942-003; ER10-2042-004; ER10-2043-002; ER10-2029-004; ER10-2041-002; ER10-2040-002; ER10-2039-002; ER10-2037-002; ER10-2036-002; ER10-1898-001; ER10-1934-001; ER10-1893-001; ER10-1889-001; ER10-1895-001; ER10-1870-001; ER10-1858-001; ER10-2044-002.

Applicants: Calpine Energy Services, L.P., Bethpage Energy Center 3, LLC, Calpine Construction Finance Company, LP, CES Marketing V, L.P., CES Marketing X, LLC, Zion Energy LLC, Calpine Philadelphia Inc., CPN Bethpage 3rd Turbine, Inc., KIAC Partners, Nissequogue Cogen Partners, TBG Cogen Partners, CES Marketing IX, LLC, Calpine Mid-Atlantic Marketing, LLC, Calpine Bethlehem, LLC, Calpine Mid-Atlantic Generation, LLC, Calpine Mid Merit, LLC, Calpine New Jersey Generation, LLC, Calpine Vineland Solar, LLC, Calpine Newark, LLC.

Description: Updated Market Power Analysis of Bethpage Energy Center 3, LLC, et al.

Filed Date: 06/30/2011.

Accession Number: 20110630-5298.

Comment Date: 5 p.m. Eastern Time on Monday, August 29, 2011.

Docket Numbers: ER10-2566-001.

Applicants: Duke Energy Carolinas, LLC.

Description: Updated market analysis in Southeast Region of Duke Energy Carolinas, LLC.

Filed Date: 07/01/2011.

Accession Number: 20110701-5069.

Comment Date: 5 p.m. Eastern Time on Tuesday, August 30, 2011.

Docket Numbers: ER11-2547-003.

Applicants: New York Independent System Operator, Inc.

Description: New York Independent System Operator, Inc. submits tariff filing per 35: NYISO notification of 15 minute variable scheduling at HQ Chateauguay interface to be effective 7/27/2011.

Filed Date: 07/01/2011.

Accession Number: 20110701-5085.

Comment Date: 5 p.m. Eastern Time on Friday, July 22, 2011.

Docket Numbers: ER10-2881-002; ER10-2882-002; ER10-2883-002; ER10-2884-002; ER10-2885-002; ER10-2641-002; ER10-2663-002; ER10-2886-002;

Applicants: Alabama Power Company, Southern Power Company, Mississippi Power Company, Georgia Power Company, Gulf Power Company, Oleander Power Project, Limited Partnership, Southern Company—Florida LLC, Southern Turner Cimarron I, LLC.

Description: Updated Market Power Analysis of Southern Companies and their affiliates for the Southeast Region under ER10-2881, et al.

Filed Date: 06/30/2011.

Accession Number: 20110630-5094.

Comment Date: 5 p.m. Eastern Time on Monday, August 29, 2011.

Docket Numbers: ER10-2895-001.

Applicants: Bear Swamp Power Company LLC.

Description: Bear Swamp Power Company LLC submits tariff filing per 35: Bear Swamp Power Company LLC Revised MBR Tariff to be effective 7/1/2011.

Filed Date: 06/30/2011.

Accession Number: 20110630-5019.

Comment Date: 5 p.m. Eastern Time on Thursday, July 21, 2011.

Docket Numbers: ER10-2895-002; ER10-2901-001; ER10-1427-001; ER10-2902-002; ER10-2917-002; ER10-2919-001; ER10-2918-003; ER10-2920-002; ER10-2921-002; ER10-2922-002; ER10-2966-002.

Applicants: Bear Swamp Power Company LLC, Brookfield Energy Marketing, Inc., Brookfield Energy Marketing, LP, Brookfield Energy Marketing US LLC, Brookfield Power Piney & Deep Creek LLC, Brookfield Renewable Energy Marketing, US LLC, Carr Street Generating Stations, L.P., Erie Boulevard Hydropower, L.P., Great Lakes Hydro America, LLC, Hawks Nest Hydro, LLC, Rumford Falls Hydro LLC.

Description: Bear Swamp Power Company, et al. Market Power Update.

Filed Date: 06/30/2011.

Accession Number: 20110630-5296.

Comment Date: 5 p.m. Eastern Time on Monday, August 29, 2011.

Docket Numbers: ER10-2917-001.

Applicants: Brookfield Power Piney & Deep Creek LLC.

Description: Brookfield Power Piney & Deep Creek LLC submits tariff filing per 35: Brookfield Power Pine & Deep Creek LLC Revised Market-Based Rate Tariff to be effective 7/1/2011.

Filed Date: 06/30/2011.

Accession Number: 20110630-5023.

Comment Date: 5 p.m. Eastern Time on Thursday, July 21, 2011.

Docket Numbers: ER10-2918-002.

Applicants: Carr Street Generating Station, L.P.

Description: Carr Street Generating Station, L.P. submits tariff filing per 35: Carr Street Generating Station, L.P. Revised MBR Tariff to be effective 7/1/2011.

Filed Date: 06/30/2011.

Accession Number: 20110630-5093.

Comment Date: 5 p.m. Eastern Time on Thursday, July 21, 2011.

Docket Numbers: ER10-2920-001.

Applicants: Erie Boulevard Hydropower, L.P.

Description: Erie Boulevard Hydropower, L.P. submits tariff filing per 35: Erie Boulevard Hydropower, L.P. Revised MBR Tariff to be effective 7/1/2011.

Filed Date: 06/30/2011.

Accession Number: 20110630-5028.

Comment Date: 5 p.m. Eastern Time on Thursday, July 21, 2011.

Docket Numbers: ER10-2921-001.

Applicants: Great Lakes Hydro America, LLC.

Description: Great Lakes Hydro America, LLC submits tariff filing per 35: Great Lakes Hydro America, LLC Revised MBR Tariff to be effective 7/1/2011.

Filed Date: 06/30/2011.

Accession Number: 20110630-5031.

Comment Date: 5 p.m. Eastern Time on Thursday, July 21, 2011.

Docket Numbers: ER10-2922-001.

Applicants: Hawks Nest Hydro LLC.

Description: Hawks Nest Hydro LLC submits tariff filing per 35: Hawks Nest Hydro LLC Revised MBR Tariff to be effective 7/1/2011.

Filed Date: 06/30/2011.

Accession Number: 20110630-5040.

Comment Date: 5 p.m. Eastern Time on Thursday, July 21, 2011.

Docket Numbers: ER10-2952-002; ER10-2955-002.

Applicants: Flat Rock Windpower II LLC, Flat Rock Windpower LLC

Description: Supplement to Updated Market Power Analysis of Flat Rock Windpower LLC and Flat Rock Windpower II LLC.

Filed Date: 06/30/2011.

Accession Number: 20110630-5301.

Comment Date: 5 p.m. Eastern Time on Monday, August 29, 2011.

Docket Numbers: ER10-2966-001.

Applicants: Rumford Falls Hydro LLC.

Description: Rumford Falls Hydro LLC submits tariff filing per 35: Rumford Falls Hydro LLC Revised MBR Tariff to be effective 7/1/2011.

Filed Date: 06/30/2011.

Accession Number: 20110630-5042.

Comment Date: 5 p.m. Eastern Time on Thursday, July 21, 2011.

Docket Numbers: ER10-2985-001; ER10-3049-002; ER10-3051-002.

Applicants: Champion Energy Marketing, LLC, Champion Energy Services, LLC, Champion Energy, LLC.

Description: Updated Market Power Analysis for the Northeast Region of Champion Energy Marketing, LLC, et. al.

Filed Date: 06/30/2011.

Accession Number: 20110630-5306.

Comment Date: 5 p.m. Eastern Time on Monday, August 29, 2011.

Docket Numbers: ER10-3195-001; ER10-3194-001.

Applicants: MATEP LLC; MATEP Limited Partnership.

Description: Updated Market Power Analysis for the Northeast Region of MATEP Limited Partnership.

Filed Date: 06/30/2011.

Accession Number: 20110630-5294.

Comment Date: 5 p.m. Eastern Time on Monday, August 29, 2011.

Docket Numbers: ER11-2079-001; ER11-2064-001; ER11-2065-001; ER11-2066-001; ER10-1330-001.

Applicants: Duke Energy Washington II, LLC, Duke Energy Fayette II, LLC, Duke Energy Hanging Rock II, LLC, Duke Energy Lee II, LLC, North Allegheny Wind, LLC.

Description: Triennial of North Allegheny Wind, LLC.

Filed Date: 06/30/2011.

Accession Number: 20110630-5277.

Comment Date: 5 p.m. Eastern Time on Monday, August 29, 2011.

Docket Numbers: ER11-2292-001.

Applicants: Brookfield Energy Marketing Inc.

Description: Brookfield Energy Marketing Inc. submits tariff filing per 35: Brookfield Energy Marketing Inc. Revised MBR Tariff to be effective 7/1/2011.

Filed Date: 06/30/2011.

Accession Number: 20110630-5020.

Comment Date: 5 p.m. Eastern Time on Thursday, July 21, 2011.

Docket Numbers: ER11-2293-001.

Applicants: Brookfield Energy Marketing US LLC.

Description: Brookfield Energy Marketing US LLC submits tariff filing per 35: Brookfield Energy Marketing US LLC Revised Market-Based Rate Tariff to be effective 7/1/2011.

Filed Date: 06/30/2011.

Accession Number: 20110630-5022.

Comment Date: 5 p.m. Eastern Time on Thursday, July 21, 2011.

Docket Numbers: ER11-2294-001.

Applicants: Brookfield Renewable Energy Marketing U.S.

Description: Brookfield Renewable Energy Marketing U.S. LLC submits tariff filing per 35: Brookfield Renewable Energy Marketing U.S. LLC Revised MBR Tariff to be effective 7/1/2011.

Filed Date: 06/30/2011.

Accession Number: 20110630-5024.

Comment Date: 5 p.m. Eastern Time on Thursday, July 21, 2011.

Docket Numbers: ER11-2604-002.

Applicants: Commonwealth Chesapeake Company LLC.

Description: Commonwealth Chesapeake Company LLC submits tariff filing per 35: Request for Category 1 Seller Determination in the Northeast region to be effective 8/29/2011.

Filed Date: 06/30/2011.

Accession Number: 20110630-5064.

Comment Date: 5 p.m. Eastern Time on Thursday, July 21, 2011.

Docket Numbers: ER11-2605-002.

Applicants: Tyr Energy LLC.

Description: Tyr Energy LLC submits tariff filing per 35: Request for Category 1 Seller Determination in the Northeast region to be effective 8/29/2011.

Filed Date: 06/30/2011.

Accession Number: 20110630-5062.

Comment Date: 5 p.m. Eastern Time on Thursday, July 21, 2011.

Docket Numbers: ER11-2701-001.

Applicants: Mountain View Power Partners IV, LLC.

Description: Mountain View Power Partners IV, LLC submits tariff filing per 35: Mountain View Power Partners IV, LLC Compliance Filing to be effective 7/1/2011.

Filed Date: 06/30/2011.

Accession Number: 20110630-5107.

Comment Date: 5 p.m. Eastern Time on Thursday, July 21, 2011.

Docket Numbers: ER11-2814-001.

Applicants: American Transmission Systems, Incorporated, PJM Interconnection, LLC.

Description: American Transmission Systems, Incorporated submits tariff filing per 35: ATSI submits compliance filing in Docket Nos. ER11-2814 and ER11-2815 to be effective N/A.

Filed Date: 06/30/2011.

Accession Number: 20110630-5118.

Comment Date: 5 p.m. Eastern Time on Thursday, July 21, 2011.

Docket Numbers: ER11-2815-002.

Applicants: American Transmission Systems, Incorporated, PJM Interconnection, LLC.

Description: American Transmission Systems, Incorporated submits tariff filing per 35: ATSI submits compliance filing in Docket Nos. ER11-2814 and ER11-2815 to be effective 6/1/2011.

Filed Date: 06/30/2011.

Accession Number: 20110630-5120.

Comment Date: 5 p.m. Eastern Time on Thursday, July 21, 2011.

Docket Numbers: ER11-3262-002.

Applicants: Trans Bay Cable LLC.

Description: Trans Bay Cable LLC submits tariff filing per 35: Compliance to be effective 6/30/2011.

Filed Date: 06/30/2011.

Accession Number: 20110630-5051.

Comment Date: 5 p.m. Eastern Time on Thursday, July 21, 2011.

Docket Numbers: ER11-3279-001.

Applicants: Midwest Independent Transmission System Operator, Inc.

Description: Midwest Independent Transmission System Operator, Inc. submits tariff filing per 35: 06-30-11 Schedule 37 and Attachment GG compliance to be effective 6/1/2011.

Filed Date: 06/30/2011.

Accession Number: 20110630-5161.

Comment Date: 5 p.m. Eastern Time on Thursday, July 21, 2011.

Docket Numbers: ER11-3808-001.

Applicants: ORNI 39, LLC.

Description: ORNI 39, LLC submits tariff filing per 35.17(b): Amendment to Petition to be effective 8/1/2011 under ER11-3808.

Filed Date: 07/01/2011.

Accession Number: 20110701-5075.

Comment Date: 5 p.m. Eastern Time on Friday, July 22, 2011.

Docket Numbers: ER11-3876-001; ER11-2044-002; ER10-2611-001.

Applicants: MidAmerican Energy Company, Cordova Energy Company LLC, Saranac Power Partners, L.P.

Description: Updated market power analysis for Northeast Region of Cordova Energy Company LLC, et al.

Filed Date: 06/30/2011.

Accession Number: 20110630-5287.

Comment Date: 5 p.m. Eastern Time on Monday, August 29, 2011.

Docket Numbers: ER11-3978-000.

Applicants: PPL EnergyPlus, LLC.

Description: PPL EnergyPlus, LLC submits tariff filing per 35.1: Transmission Reassignment Tariff to be effective 7/1/2011.

Filed Date: 07/01/2011.

Accession Number: 20110701-5049.

Comment Date: 5 p.m. Eastern Time on Friday, July 22, 2011.

Docket Numbers: ER11-3979-000.

Applicants: PJM Interconnection, LLC, Midwest Independent Transmission System Operator Inc.

Description: PJM Interconnection, LLC submits tariff filing per 35: Compliance filing per Settlement Order in Docket Nos. EL10-45, EL10-46 & EL10-60 to be effective 6/16/2011.

Filed Date: 07/01/2011.

Accession Number: 20110701-5059.

Comment Date: 5 p.m. Eastern Time on Friday, July 22, 2011.

Docket Numbers: ER11-3980-000.

Applicants: ORNI 14.

Description: ORNI 14 submits tariff filing per 35.12: Petition of ORNI 14 LLC For Approval of Initial Market-Based Rate Tariff to be effective 7/2/2011.

Filed Date: 07/01/2011.

Accession Number: 20110701-5062.

Comment Date: 5 p.m. Eastern Time on Friday, July 22, 2011.

Docket Numbers: ER11-3981-000.

Applicants: Acadia Power Partners, LLC.

Description: Acadia Power Partners, LLC submits tariff filing per 35.15: Cancellation of Acadia MBR to be effective 7/1/2011.

Filed Date: 07/01/2011.

Accession Number: 20110701-5072.

Comment Date: 5 p.m. Eastern Time on Friday, July 22, 2011.

Docket Numbers: ER11-3982-000.

Applicants: Cleco Power LLC.

Description: Cleco Power LLC submits tariff filing per 35.15: Cancellation of RS21 Acadia IA to be effective 7/1/2011.

Filed Date: 07/01/2011.

Accession Number: 20110701-5074.

Comment Date: 5 p.m. Eastern Time on Friday, July 22, 2011.

Docket Numbers: ER11-3983-000.

Applicants: Deseret Generation & Transmission Co-operative, Inc.

Description: Deseret Generation & Transmission Co-operative, Inc. submits tariff filing per 35: 2011 RIA Annual Update to be effective 1/1/2011.

Filed Date: 07/01/2011.

Accession Number: 20110701-5126.

Comment Date: 5 p.m. Eastern Time on Friday, July 22, 2011.

Docket Numbers: ER11-3984-000.

Applicants: City of Riverside, California.

Description: City of Riverside, California submits tariff filing per 35.13(a)(1): City of Riverside, CA TO Tariff and TRR Revisions to be effective 8/1/2011.

Filed Date: 07/01/2011.

Accession Number: 20110701-5203.

Comment Date: 5 p.m. Eastern Time on Friday, July 22, 2011.

Docket Numbers: ER11-3985-000.

Applicants: UniSource Energy Development Company.

Description: Notification of Cancellation of Tolling Agreement of UniSource Energy Development.

Filed Date: 07/01/2011.

Accession Number: 20110701-5234.

Comment Date: 5 p.m. Eastern Time on Friday, July 22, 2011.

Docket Numbers: ER11-3986-000.

Applicants: Southwest Power Pool, Inc.

Description: Southwest Power Pool, Inc. submits tariff filing per 35.13(a)(2)(iii: 1765R4 KCP&L-GMO NITSA NOAS to be effective 6/1/2011.

Filed Date: 07/01/2011.

Accession Number: 20110701-5236.

Comment Date: 5 p.m. Eastern Time on Friday, July 22, 2011.

Docket Numbers: ER11-3987-000.

Applicants: Mesquite Solar 1, LLC.

Description: Mesquite Solar 1, LLC submits tariff filing per 35.12: Mesquite Solar 1, LLC FERC Electric Tariff No. 1 Market-Based Rates Tariff to be effective 7/1/2011.

Filed Date: 07/01/2011.

Accession Number: 20110701-5245.

Comment Date: 5 p.m. Eastern Time on Friday, July 22, 2011.

Docket Numbers: ER11-3988-000.

Applicants: CES Placerita, Incorporated.

Description: CES Placerita, Incorporated submits tariff filing per 35: Notice of Succession Revised to be effective 3/24/2011.

Filed Date: 07/01/2011.

Accession Number: 20110701-5246.

Comment Date: 5 p.m. Eastern Time on Friday, July 22, 2011.

Docket Numbers: ER11-3989-000.

Applicants: Michigan Wind 2, LLC.

Description: Michigan Wind 2, LLC submits tariff filing per 35.12: Application for Market-Based Rate Authorization to be effective 9/1/2011.

Filed Date: 07/01/2011.

Accession Number: 20110701-5256.

Comment Date: 5 p.m. Eastern Time on Friday, July 22, 2011.

Docket Numbers: ER11-3990-000.

Applicants: PacifiCorp.

Description: PacifiCorp submits tariff filing per 35.13(a)(2)(iii: USBR-WAPA Weber Basin Project Agreement to be effective 6/10/2011.

Filed Date: 07/01/2011.

Accession Number: 20110701-5262.

Comment Date: 5 p.m. Eastern Time on Friday, July 22, 2011.

Docket Numbers: ER11-3991-000.

Applicants: American Transmission Systems, Incorporated, PJM Interconnection, LLC.

Description: American Transmission Systems, Incorporated submits tariff filing per 35.13(a)(2)(iii: FirstEnergy submits Service Agreement Nos. 2814, 2815 & 2818 re ASTI Integration to be effective 6/1/2011.

Filed Date: 07/01/2011.

Accession Number: 20110701-5269.

Comment Date: 5 p.m. Eastern Time on Friday, July 22, 2011.

Docket Numbers: ER11-3992-000.

Applicants: L&P Electric, Inc.

Description: L &P Electric, Inc. submits tariff filing per 35.12: Leggatt & Platt Electric MBRA Application to be effective 8/1/2011.

Filed Date: 07/01/2011.

Accession Number: 20110701-5270.

Comment Date: 5 p.m. Eastern Time on Friday, July 22, 2011.

Docket Numbers: ER11-3993-000.

Applicants: ALLETE, Inc.

Description: Notices of Termination of ALLETE, Inc.

Filed Date: 06/30/2011.

Accession Number: 20110630-5300.

Comment Date: 5 p.m. Eastern Time on Thursday, July 21, 2011.

Take notice that the Commission received the following public utility holding company filings:

Docket Numbers: PH11-17-000.

Applicants: Fort Detrick Cogen Partners, LLC.

Description: Form FERC-65B Waiver Notification of Fort Detrick Cogen Partners, LLC.

Filed Date: 06/30/2011.

Accession Number: 20110630-5307.

Comment Date: 5 p.m. Eastern Time on Thursday, July 21, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: July 5, 2011.
Nathaniel J. Davis, Sr.,
Deputy Secretary.

[FR Doc. 2011-17833 Filed 7-14-11; 8:45 am]

BILLING CODE 6717-01-P